DEPARTMENT OF TRANSPORTATION

Saint Lawrence Seaway Development Corporation

33 CFR Part 402

[Docket No. SLSDC 2002-11529]

RIN 2135-AA14

Tariff of Tolls

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges charged by the SLSMC in Canada starting in the 2002 navigation season, which are effective only in Canada.

DATES: This rule is effective on March 18, 2002.

FOR FURTHER INFORMATION CONTACT: Marc C. Owen, Chief Counsel, Saint Lawrence Seaway Development Corporation, 400 Seventh Street, SW, Washington, DC 20590, (202) 366-6823.

SUPPLEMENTARY INFORMATION: The Saint Lawrence Seaway Development Corporation (SLSDC) and the St. Lawrence Seaway Management Corporation (SLSMC) of Canada, under international agreement, jointly publish and presently administer the St. Lawrence Seaway Tariff of Tolls in their respective jurisdictions. (The Tariff is called the Schedule of Fees and Charges in Canada.) The amendments are described in the following summary.

The Tariff sets forth the level of tolls assessed on all commodities and vessels transiting the facilities operated by the SLSDC and the SLSMC. The SLSDC is revising § 402.8, “Schedule of tolls”, to reflect the fees and charges charged by the SLSMC in Canada starting in the 2002 navigation season. The changes affect the tolls for commercial vessels and are applicable only in Canada as the collection of the U.S. portion of tolls for commercial vessels is waived by law (33 U.S.C. 988a(a)).

Regulatory Evaluation

This regulation involves a foreign affairs function of the United States and therefore Executive Order 12866 does not apply. This regulation has also been evaluated under the Department of Transportation's Regulatory Policies and Procedures and the regulation is not considered significant under those procedures and its economic impact is expected to be so minimal that a full economic evaluation is not warranted.

Regulatory Flexibility Act Determination

The Saint Lawrence Seaway Development Corporation certifies that this regulation will not have a significant economic impact on a substantial number of small entities. The St. Lawrence Seaway Tariff of Tolls primarily relates to commercial users of the Seaway, the vast majority of whom are foreign vessel operators. Therefore, any resulting costs will be borne mostly by foreign vessels.

Environmental Impact

This regulation does not require an environmental impact statement under the National Environmental Policy Act (49 U.S.C. 4321, et seq.) because it is not a major federal action significantly affecting the quality of human environment.

Federalism

The Corporation has analyzed this rule under the principles and criteria in Executive Order 13132, dated August 4, 1999, and has determined that the rule does not have sufficient federalism implications to warrant a Federalism Assessment.

Unfunded Mandates

The Corporation has analyzed this rule under title II of the Unfunded Mandates Reform Act of 1995 (Public Law 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 402

Vessels, Waterways.

Accordingly, the Saint Lawrence Seaway Development Corporation amends 33 CFR part 402, Tariff of Tolls, as follows:

PART 402—TARIFF OF TOLLS

1. The authority citation for part 402 continues to read as follows:

Authority: 33 U.S.C. 983(a), 984(a)(4), and 988, as amended; 49 CFR 1.52.

2. § 402.8 is revised to read as follows:

§ 402.8 Schedule of tolls.

Item No. and description of charges | Rate ($) Montreal to or from Lake Ontario (5 locks) | Rate ($) Welland Canal—Lake Ontario to or from Lake Erie (8 locks)
1. Subject to item 3, for complete transit of the Seaway, a composite toll, comprising:
(1) a charge per gross registered ton of the ship, applicable whether the ship is wholly or partially laden, or is in ballast, and the gross registered tonnage being calculated according to prescribed rules for measurement in the United States or under the International Convention on Tonnage Measurement of Ships, 1969, as amended from time to time | 0.0883 | 0.1436
(2) a charge per metric ton of cargo as certified on the ship's manifest or other document, as follows:
(a) bulk cargo | 0.9164 | 0.6072
(b) general cargo | 2.2081 | 0.9717
(c) steel slab | 1.9984 | 0.6956
(d) containerized cargo | 0.9164 | 0.6072
(e) government aid cargo | N/a | N/a
(f) grain | 0.5630 | 0.6072
(g) coal | 0.5410 | 0.6072
(3) a charge per passenger per lock | 1.3028 | 1.3028
(4) a charge per lock for transit of the Welland Canal in either direction by cargo ships:
(a) loaded | N/a | 484.93
(b) in ballast | N/a | 358.29
2. Subject to item 3, for partial transit of the Seaway | 20 per cent per lock of the applicable charge under items 1 (1) and (2) plus the applicable charge under items 1 (3) and (4) | 13 per cent per lock of the applicable charge under items 1(1) and (2) plus the applicable charge under items 1 (3) and (4)
3. Minimum charge per ship per lock transited for full or partial transit of the Seaway | 16.24 | 16.24
4. A rebate applicable for the 2001 navigation season to the rates of item 1 to 3 | Rebate of 1.5% | Rebate of 1.5%
5. A charge per pleasure craft per lock transited for full or partial transit of the Seaway, including applicable federal taxes¹ | 20.00 | 20.00
¹ The applicable charge at the Saint Lawrence Seaway Development Corporation's locks (Eisenhower, Snell) is $20 U.S. or $30 Canadian per lock. The other amounts are in Canadian dollars and are for the Canadian share of tolls. The collection of the U.S. portion of tolls for commercial vessels is waived by law (33 U.S.C. 988a(a)).

Issued at Washington, DC on February 8, 2002.
Saint Lawrence Seaway Development Corporation.
Albert S. Jacquez,
Administrator.

[FR Doc. 02-3559 Filed 2-13-02; 8:45 am]

BILLING CODE 4910-61-P